DEPARTMENT OF TRANSPORTATION

Federal Highway Administration

Environmental Impact Statement: Cache County, Utah

AGENCY: Federal Highway Administration (FHWA), DOT.

ACTION: Notice of intent.

SUMMARY: The FHWA is issuing this notice to advise the public that an environmental impact statement will be prepared for a proposed highway project in Cache County, Utah.

FOR FURTHER INFORMATION CONTACT: Jeffrey Berna, Environmental Specialist, Federal Highway Administration, 2520 West 4700 South, Suite 9A, Salt Lake City, Utah 84118, Telephone: (801) 963-0078 ext, 235; or Brad Humphreys, Utah Department of Transportation, Region 1, 166 West Southwell Road, Ogden, Utah 84404-4194, telephone: (801) 620-1684.

SUPPLEMENTARY INFORMATION: The FHWA, in cooperation with the Utah Department of Transportation (UDOT) and the City of Logan, Utah, will prepare an environmental impact statement (EIS) on a proposal to develop a new transportation corridor of approximately 1.2 miles between 300 South Street in the City of Logan to 100 North/Providence Lane in the City of Providence, Utah. The proposed new transportation corridor would consist of a new collector road built within an 80-foot right-of-way (ROW). The proposed transportation corridor would provide a transportation link between the City of Logan and the rapidly growing commercial and residential area of Providence, facilitating the economic expansion and residential development of south Logan and north Providence on the east side of Main Street. This purpose is consistent with the City of Logan and the City of Providence general plans.

The proposed new transportation corridor with a collector road within an 80-foot ROW is included in the current Long-Range Plan and the Transportation Improvement Plan for the Logan Urbanized Area (LUA). The Cache Metropolitan Planning Organization's (CMPO) Long-Range Plan and the Transportation Improvement Plan for the Logan Urbanized Area (LUA). The Cache Metropolitan Planning Organization's (CMPO) Long-Range Plan has identified the proposed new collector road on approximately 100 East Street as one of the highest priorities in preserving and improving transportation mobility within the LUA.

Alternatives under consideration include (1) taking no action, (2) using transportation system management strategies that would provide for transportation efficiency within the existing transportation network, and (3) constructing the new collector road on one of several alignments. These alignments could require widening existing roadways in south Logan, and would also require entirely new ROW for large segments of the alignments. Design variations of grade and alignment will be incorporated into, and analyzed with, the various build alternatives.

Information letters describing the proposed action and soliciting comments on the proposed project will be sent to appropriate Federal, State and local agencies, as well as to private organizations and individuals who have previously expressed, or that are expected to be interested, in the proposed project. An initial public scoping meeting will be held in the City of Logan during late August or September 2004. Notice of additional public meetings to present information and solicit comments relative to alternatives for consideration and possible impacts will be given as the proposed project proceeds. Upon release of the draft EIS for public and agency review and comment, public notice will be given of the time and place for a public hearing to be held to receive comments. The draft EIS will be available for public and agency review and comment for no less than two weeks prior to the public hearing.

To ensure that the full range of issues related to this proposed action are addressed and all significant issues are identified, comments and suggestions are invited from all interested parties. Comments or questions concerning this proposed action and the EIS should be directed to the FHWA or UDOT at the addresses provided above.

(Catalog of Federal Domestic Assistance Program Number 20.205, Highway Research, Planning and Construction. The regulations impending Executive Order 12372 regarding intergovernmental consultation on Federal programs and activities apply to this program)
Issued on: July 30, 2004.
Jeffrey Berna,
Environmental Specialist, Salt Lake City, Utah.

[FR Doc. 04-17863 Filed 8-4-04; 8:45 am]

BILLING CODE 4910-22-M